FEDERAL MARITIME COMMISSION

Notice of Agreement Filed

The Commission hereby gives notice of the filing of the following agreement under the Shipping Act of 1984. Interested parties may submit comments on an agreement to the Secretary, Federal Maritime Commission, Washington, DC 20573, within ten days of the date this notice appears in the Federal Register. Copies of agreements are available through the Commission's Office of Agreements (202-523-5793 or tradeanalysis@fmc.gov).

Agreement No.: 011654-015.

Title: Middle East Indian Subcontinent Discussion Agreement.

Parties: A.P. Moller-Maersk A/S; China Shipping Navigation Co., Ltd. d/b/a Indotrans; CMA CGM S.A.; Hapag-Lloyd Container Linie GmbH; MacAndrews & Company Limited; The National Shipping Company of Saudi Arabia; and United Arab Shipping Company (S.A.G.).

Filing Party: Wayne R. Rohde, Esq.; Sher & Blackwell LLP; 1850 M Street, NW.; Suite 900; Washington, DC 20036.

Synopsis: The amendment substitutes Hapag-Lloyd for Contship Containerlines as a party to the agreement. The parties request expedited review of the amendment.

By Order of the Federal Maritime Commission.
Dated: June 12, 2006.
Bryant L. VanBrakle,
Secretary.

[FR Doc. E6-9360 Filed 6-14-06; 8:45 am]

BILLING CODE 6730-01-P